NUCLEAR REGULATORY COMMISSION

[Docket No. 50-368]

Entergy Operations, Inc.; Notice of Denial of Amendment to Facility Operating License and Opportunity for Hearing

The U.S. Nuclear Regulatory Commission (the Commission) has denied a request by Entergy Operations, Inc., (Entergy Operations or the licensee) for an amendment to Facility Operating License No. NPF-6 issued to the licensee for operation of the Arkansas Nuclear One, Unit No. 2, nuclear reactor located in Pope County, Arkansas. Notice of Consideration of Issuance of this amendment was published in the Federal Register on April 5, 2000 (65 FR 17914).

The purpose of the licensee's amendment request was to revise the license to permit operation of the reactor based on a risk-informed demonstration that predicted steam generator tube integrity, with consideration of eggcrate axial flaws, is adequate to meet Regulatory Guide 1.174 numerical acceptance criteria.

The NRC staff has concluded that the licensee's request cannot be granted. The licensee was notified of the Commission's denial of the proposed change by a letter dated July 21, 2000.

By August 28, 2000, the licensee may demand a hearing with respect to the denial described above. Any person whose interest may be affected by this proceeding may file a written petition for leave to intervene pursuant to 10 CFR 2.714.

A request for hearing or petition for leave to intervene must be filed with the Secretary of the Commission, U.S. Nuclear Regulatory Commission, Washington, DC 20555-0001 Attention: Rulemakings and Adjudications Staff, or may be delivered to the Commission's Public Document Room, the Gelman Building, 2120 L Street, NW., Washington, DC, by the above date.

A copy of any petitions should also be sent to the Office of the General Counsel, U.S. Nuclear Regulatory Commission, Washington, DC 20555-0001, and to Nicholas S. Reynolds, Esquire, Winston and Strawn, 1400 L Street, NW., Washington, DC 20005-3502, attorney for the licensee.

For further details with respect to this action, see (1) The application for amendment dated March 9, 2000, as supplemented by letters dated April 11 and 28, May 30, June 20, 22, 23 (two letters), and 30, and July 7, 8, and 11, 2000, and (2) the Commission's letter to the licensee dated July 21, 2000.

These documents are available for public inspection at the Commission's Public Document Room, the Gelman Building, 2120 L Street, NW., Washington, DC, and accessible electronically through the ADAMS Public Electronic Reading Room link at the NRC Web site (http://www.nrc.gov).

Dated at Rockville, Maryland, this 21st day of July 2000.
For the Nuclear Regulatory Commission.
Stuart A. Richards,
Director, Project Directorate IV and Decommissioning Division of Licensing Project Management, Office of Nuclear Reactor Regulation.

[FR Doc. 00-19125 Filed 7-27-00; 8:45 am]

BILLING CODE 7590-01-P